DEPARTMENT OF TRANSPORTATION

Federal Aviation Administration

Notice Before Waiver With Respect to Land at Lynchburg Regional Airport, Lynchburg, VA

AGENCY: Federal Aviation Administration (FAA), DOT.

ACTION: Notice of intent of waiver with respect to land.

SUMMARY: The FAA is publishing notice of proposed release of 0.02 acres of land at the Lynchburg Regional Airport, Campbell County, Virginia to the Virginia Department of Transportation for the Improvement of U.S. Route 29. There are no impacts to the Airport and the land is not needed for airport development as shown on the Airport Layout Plan. Fair Market Value of the land will be paid to the Airport Sponsor, and used for Airport purposes.

DATES: Comments must be received on or before June 12, 2008.

ADDRESSES: Comments on this application may be mailed or delivered in triplicate to the FAA at the following address: Terry J. Page, Manager, FAA Washington Airports District Office, 23723 Air Freight Lane, Suite 210, Dulles, VA 20166.

In addition, one copy of any comments submitted to the FAA must be mailed or delivered to Mark Courtney, Director, Lynchburg Regional Airport, at the following address: Mark Courtney, A.A.E., Airport Director, Lynchburg Regional Airport, 4308 Wards Road, Lynchburg, Virginia 24502.

FOR FURTHER INFORMATION CONTACT: Mr. Terry Page, Manager, Washington Airports District Office, 23723 Air Freight Lane, Suite 210, Dulles, VA 20166; telephone (703) 661-1354, fax (703) 661-1370, e-mail Terry.Page@faa.gov.

SUPPLEMENTARY INFORMATION: On April 5, 2000, new authorizing legislation became effective. That bill, the Wendell H. Ford Aviation Investment and Reform Act for the 21st Century, Public Law 10-181 (Apr. 5, 2000; 114 Stat. 61) (AIR 21) requires that a 30 day public notice must be provided before the Secretary may waive any condition imposed on an interest in surplus property.

Terry J. Page,
Manager, Washington Airports District Office, Eastern Region.

[FR Doc. E8-10419 Filed 5-12-08; 8:45 am]

BILLING CODE 4910-13-M